U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

Name: Carolyn Bartholomew, Acting Chairman of the U.S.-China Economic and Security Review Commission.

The Commission is mandated by Congress to investigate, assess, evaluate and report to Congress annually on “the national budget of the People's Republic of China, and the fiscal strength of the People's Republic of China in relation to internal instability in the People's Republic of China and the likelihood of the externalization of problems arising from such internal instability.” Pursuant to this mandate, the Commission will be holding a public hearing in Washington, DC on February 2-3, 2006.

Background

This event is the second in a series of public hearings the Commission will hold during its 2006 report cycle to collect input from leading experts in academia, business, industry, government and the public on the impact of U.S-China trade and economic relations. The February 2-3 hearing is being conducted to obtain commentary about issues connected to the major domestic challenges facing Chinese leaders. Information on upcoming hearings, as well as transcripts of past Commission hearings, can be obtained from the USCC Web site http://www.uscc.gov.

The February 2-3 hearing will be Co-chaired by Commissioners William A. Reinsch and Dr. Larry M. Wortzel.

Purpose of Hearing

The hearing is designed to assist the Commission in fulfilling its mandate by examining the issues to identify the major challenges facing the Chinese leadership, how those challenges manifest themselves in a growing frequency of public protests, how China's state bureaucracies are responding to the protests, and what actions the United States is taking or should be taking as a consequence of the challenges confronting the Chinese leadership. Invited witnesses include administration officials, academic experts, and research fellows.

Copies of the hearing agenda will be made available on the Commission's Web site http://www.uscc.gov. Any interested party may file a written statement by February 3, 2005, by mailing to the contact below.

DATES: Thursday, February 2, 2006, 9 a.m. to 2:45 p.m., and Friday, February 3, 2006, 9 to 11:30 a.m., Eastern Standard Time. A detailed agenda for the hearing will be posted to the Commission's Web site at http://www.uscc.gov in the near future.

ADDRESSES: The hearing will be held on Capitol Hill in Room 1310 of the Longworth House Office Building, Independence and New Jersey Avenues, SE., Washington, DC. Public Seating is limited to about 50 people on a first come, first served basis.

FOR FURTHER INFORMATION CONTACT: Any member of the public wishing further information concerning the hearing should contact Kathy Michels, Associate Director for the U.S.-China Economic and Security Review Commission, 444 North Capitol Street, NW., Suite 602, Washington, DC 20001; phone 202-624-1409, or via e-mail at kmichels@uscc.gov.

Authority: The Commission was established in October 2000 pursuant to the Floyd D. Spence National Defense Authorization Act Section 1238, Pub. L. 106-398, 114 Stat. 1654A-334 (2000) (codified at 22 U.S.C. section 7002 (2001), as amended by Public Law 109-108 dated November 16, 2005, and the “Consolidated Appropriations Resolution of 2003,” Pub. L. No. 108-7 dated February 20, 2003.

Dated: January 19, 2006.
Kathleen J. Michels,
Associate Director, U.S.-China Economic and Security Review Commission.

[FR Doc. E6-931 Filed 1-24-06; 8:45 am]

BILLING CODE 1137-00-P